DEPARTMENT OF AGRICULTURE

National Agricultural Statistics Service

Notice of Intent To Resume the Agricultural Labor Survey and Farm Labor Reports.

AGENCY: National Agricultural Statistics Service, USDA.

ACTION: Notice of resumption of data information collection and publication.

SUMMARY: This notice announces the intention of the National Agricultural Statistics Service (NASS) to resume a currently approved information collection, the Agricultural Labor Survey, and its associated publication.

FOR FURTHER INFORMATION CONTACT: Joseph T. Reilly, Associate Administrator, National Agricultural Statistics Service, U.S. Department of Agriculture, (202) 720-4333.

SUPPLEMENTARY INFORMATION: Title: Agricultural Labor Survey.

OMB Control Number: 0535-0109.

Expiration Date of Approval: November 30, 2012.

Type of Request: To resume a currently approved information collection.

Abstract: The primary objective of the National Agricultural Statistics Service is to prepare and issue State and national estimates of crop and livestock production, disposition, and prices. The Agricultural Labor Survey provides quarterly statistics on the number of agricultural workers, hours worked, and wage rates. Number of workers and hours worked are used to estimate agricultural productivity; wage rates are used in the administration of the H-2A Program and for setting Adverse Effect Wage Rates. Survey data are also used to carry out provisions of the Agricultural Adjustment Act. This collection was suspended on May 18, 2011 due to budget constraints. As a result of reimbursable funding, NASS will resume this information collection as of July 2011.

Authority: These data are collected under authority of 7 U.S.C. 2204(a). Individually identifiable data collected under this authority are governed by Section 1770 of the Food Security Act of 1985, 7 U.S.C. 2276, which requires USDA to afford strict confidentiality to non-aggregated data provided by respondents.

Signed at Washington, DC, June 8, 2011.
Joseph T. Reilly,
Associate Administrator.

[FR Doc. 2011-16249 Filed 6-28-11; 8:45 am]

BILLING CODE 3410-20-P